DEPARTMENT OF THE INTERIOR

National Park Service

[NPS-WASO-NAGPRA-NPS0032425; PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the University of Michigan. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the University of Michigan at the address in this notice by September 16, 2021.

FOR FURTHER INFORMATION CONTACT: Dr. Ben Secunda, NAGPRA Project Manager, University of Michigan, Office of Research, 4080 Fleming Building, 503 Thompson St., Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from Antrim, Newaygo, and Roscommon Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the University of Michigan Museum of Anthropological Archaeology (UMMAA) professional staff in consultation with representatives of the Bay Mills Indian Community, Michigan; Chippewa Cree Indians of the Rock Boy's Reservation, Montana [previously listed as Chippewa-Cree Indians of the Rocky Boy's Reservation, Montana]; Grand Traverse Band of Ottawa and Chippewa Indians, Michigan; Keweenaw Bay Indian Community, Michigan; Lac Vieux Desert Band of Lake Superior Chippewa Indians of Michigan; Little River Band of Ottawa Indians, Michigan; Little Shell Tribe of Chippewa Indians of Montana; Little Traverse Bay Bands of Odawa Indians, Michigan; Minnesota Chippewa Tribe, Minnesota (Mille Lacs Band); Saginaw Chippewa Indian Tribe of Michigan; and the Sault Ste. Marie Tribe of Chippewa Indians, Michigan.

The Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Minnesota Chippewa Tribe, Minnesota (Bois Forte Band (Nett Lake); Fond du Lac Band; Grand Portage Band; Leech Lake Band; White Earth Band); Ottawa Tribe of Oklahoma; Red Cliff Band of Lake Superior Chippewa Indians of Wisconsin; Red Lake Band of Chippewa Indians, Minnesota; Sokaogon Chippewa Community, Wisconsin; St. Croix Chippewa Indians of Wisconsin; and the Turtle Mountain Band of Chippewa Indians of North Dakota were invited to consult but did not participate.

Hereafter, all Tribes listed in this section are referred to as “The Tribes.”

History and Description of the Human Remains

On unknown dates in, or before, 1924, human remains representing, at minimum, two individuals were removed from the Leavitt Mound site (20AN2) in Antrim County, MI. The site is located near Grass Lake, and human remains and objects were removed from the site on multiple occasions. In August of 1924, an amateur collector removed human cranial remains from the site and subsequently donated them to the UMMAA. The human remains represent one adult, 30-60 years old, female. In the summer of 1924, a second amateur collector removed objects from the site and in September of 1924 donated them to the UMMAA. On an unknown date, a third amateur collector removed human cranial remains from the site and in November of 1924 sold them to the UMMAA. The human remains are one adult, female. The site has been dated to the Middle Woodland Period (300 B.C.-A.D. 500) based on the diagnostic artifacts. No known individuals were identified. The three associated funerary objects present are one lot of stone pipe preform made from Petoskey Stone, one lot of gray chert biface and side-notched projectile point, and one lot of shell bowl.

In August of 1928 and on an unknown date in 1965, human remains representing, at minimum, five individuals were removed from the Brooks Mound site (20NE1) in Newaygo County, MI. The Brooks Mound site is located in Brooks Township near the Muskegon River and consists of a complex of several mounds of varying sizes. In 1928, an archeologist from the UMMAA excavated two mounds at the site. Human remains from two individuals were removed from Mound A. One individual was interred in a crouching position with the head far down upon the chest. A dark red pigment was noted covering the person's face. The individual was buried with a platform pipe. A ceramic vessel, which originally held pieces of the red pigment, and a small turtle carapace were placed near the left shoulder, and multiple salt water species shell beads were placed near the left side of the person's jaw. Multiple individuals were noted in Mound 6 (possibly also known as Mound Q). The mound was described as containing an oblong burial pit where a bundle burial of three crania and long bones of five individuals were interred. Near the top of the burial was a ceramic vessel containing red sand and decorated with curvilinear lines with short cross-hatching. A second ceramic vessel was also removed from the mound. It was noted as being small, with a constricted neck, three incised bands, and the body drawing to an “egg point” on the bottom. The mounds were described as lacking distinct stratification and were streaked throughout with charcoal, ash, and fire-cracked rock. Between 1965 and 1966, another archeologist from the UMMAA excavated the site again. Additional human remains and objects were identified in the backfill dirt from the 1928 excavation of Mound A as well as from an Unknown Feature. The human remains from the site are one young adult, indeterminate sex; one adult, possibly male, with cranial modification; one adult, possibly female, with cranial modification; one juvenile; and one cremated adult. The site has been dated to the Middle Woodland Period (300 B.C.-A.D. 500) except for the intrusive burial in Mound A, which dates to the Early Late Woodland Period (A.D. 500-1000), and the Unknown Feature, for which a date could not be determined. Dating was based on the burial treatment and diagnostic artifacts. No known individuals were identified. The 27 associated funerary objects present are one lot of earthenware from two vessels; one lot of platform pipe with charred botanical remains; one lot of red ochre and coarse sandy soil sample; one lot of slate pendants; one lot of lithic blade; six lots of earthenware sherds; one lot of lithic flake; one lot of lithic blade fragment; one lot of lithic blade and lithic blade fragment; one lot of beaver incisor fragment; two lots of shell bead; one lot of corner-notched projectile point; one lot of a piece of sandstone; one lot of earthenware sherds and antler point fragment; one lot of lithic flakes and lithic scraper; one lot lithic blade fragments; one lot circular lithic biface; one lot lithic biface; one lot quartzite biface; one lot lithic biface; and one lot soil sample.

Beginning on July 6, 1965, human remains representing, at minimum, three individuals were removed from the Carrigan Mound A site (20NE106) in Newaygo County, MI. The mound is the largest of a complex of five mounds located in Croton Township, near the confluence of the Big and Muskegon Rivers. A UMMAA archeologist excavated two burials from Carrigan Mound A. The first was an infant in the central portion of the mound. A large, partially articulated dog was also noted as interred in the mound. The second burial was described as a carbonaceous pit which held a child buried in a flexed, upright position with the individual resting on their heels and with their head facing northwest. The pit contained some charcoal; however, the human remains in this burial showed no sign of burning. The individual was interred with multiple objects located in the person's lap. Two hearths were also found within the mound near its base containing cremated bone and projectile points. Museum records note all of the burials from this site as being intrusive into the mound. The human remains are from one infant, 16-32 months old; one child, 7.5-12.5 years old; and one cremated adult. Carbon 14 analysis of a charcoal log located beneath the burial of the child was dated to A.D. 680 +/− 120 years and the two hearths found within the mound were dated to 540 B.C. +/− 150 years and 590 B.C. +/− 150 years. The site is dated to the Early Woodland Period (850 B.C-A.D. 1000) and Early Late Woodland Period (A.D. 500-1000) based on C14 analysis and diagnostic artifacts. No known individuals were identified. The 46 associated funerary objects present are one lot of shell beads; one lot of beaver incisor fragments; one lot of bifacial slate tool; one lot of ochre-stained ground stone gorget; one lot of antler tool fragments with soil, one lot of yellow ochre-stained soil concretions with an embedded lithic; one lot of lithic debitage fragments and soil concretions; one lot of lithic bifaces, flake, earthenware sherds, and soil concretions with yellow ochre; one lot of lithic drill and clay fragment; one lot of lithic biface fragment; one lot of stone celt; one lot of quartzite flake; one lot of antler tine tool; one lot of deer bone tool fragments and beaver incisor fragment with sand; one lot of grinding stones; one lot of copper pin hafted in faunal bone and faunal bone fragment; one lot of copper pin; one lot of beaver incisor fragment; one lot of corner-notched projectile point and triangular biface blank; one lot of lithic scraper; one lot of faunal bone bead; one lot possible fire-cracked rock; one lot lithic debitage fragments; one lot unworked fossil fragments; one lot cremated and non-cremated faunal bone and unworked fossil; one lot rounded stone; one lot lithic debitage fragments, unworked pebbles, and cremated faunal bone fragments; one lot possible lithic debitage fragments; one lot earthenware sherd; one lot earthenware rim sherd; one lot soil sample with concretion, stone, botanicals, charcoal, and faunal bone fragments; one lot charcoal with sand; one lot conifer charcoal with sand; one lot charcoal; one lot charcoal with soil; one lot lithic debitage fragment; one lot lithic debitage fragment; one lot lithic debitage fragment; one lot soil sample; one lot lithic debitage fragment and charcoal; one lot cremated faunal bone fragments with soil; one lot faunal bone fragments, pebble, disintegrating sandstone, and unworked snail shell fragment; one lot earthenware rim sherd; one lot soil sample with charcoal; one lot Quercus sp. charcoal fragments with soil and stone; and one lot possible Canis sp. faunal bone fragments.

On an unknown date in 1965, human remains representing, at minimum, 33 individuals were removed from the Mallon Mounds site (20NE31) in Newaygo County, MI. The site consists of a series of mounds located south of the Muskegon River near Bills Lake. The site was subjected to intense looting over the years, as well as an excavation conducted by amateur collectors in 1954. In 1965, an archeologist from the UMMAA excavated Mounds A, B, E, F, and H at the site. The Museum holds only the human remains and objects from this UMMAA-led excavation. The mounds contained bundle burials, extended burials, and cremations. Some interments were believed to be secondary burials. Mound A was between 2.5 and 3 feet high with a diameter of 35 feet. A ceramic vessel was placed at the right shoulder of one of the extended individuals. Mound B was 2 feet high with a diameter of 35 feet and described as holding three distinct burials. Burned animal bone and ceramic sherds were associated with two of the burials. Mound E was the smallest of the group that was excavated and had previously been cut into by a dirt trail. This mound was estimated to have a height of 12 inches and a diameter of 19 feet. Mound F was the largest of the group at 2 feet high with a diameter of 50 feet. Mound H was 2.5 feet high with a diameter of 33 feet, and ceramic sherds from two distinct vessels were noted as associated with a partial in-situ secondary burial of two individuals. Both Mounds F and H showed evidence of previous looting. The human remains are two infants, 8-16 months old; one infant, 2-4 years old; two children, 3-5 years old; one child, 6-10 years old; two children, 7.5-12.5 years old; one juvenile, less than 16 years old; one juvenile, less than 18 years old; one adolescent/young adult, 16-22 years old; one adolescent/young adult; one adult, 18-24 years old; one adult, 20-45 years old, possible female with a post-mortem perforation and cranial modification; one adult, 20-30 years old, possible female; one adult, 24-40 years old, possible female with dental caries; one adult, 24-40 years old, possible male with supernumerary tooth; one adult, 24-40 years old, possible male; one adult, 25-55 years old, possible male with osteoarthritis, fused vertebrae, and dental abscesses; one adult, 25-60 years old, possible male with a possible infection; one adult, 30+ years old; one adult, 35+ years old, possible male with a possible infection; one adult with a possible infection; six adults; and four cremated adults. The site has been dated to the Late Middle Woodland/Early Late Woodland Period (300 B.C.-A.D. 1000) based on diagnostic artifacts. No known individuals were identified. The 28 associated funerary objects present are one lot of copper pan pipe with botanical insert, quadrilobate ceramic vessel, and soil sample; 11 lots of earthenware sherds; one lot of earthenware sherds and charcoal fragments; one lot faunal bone fragments; one lot earthenware sherds; one lot soil sample with rocks and faunal bone fragments; one lot soil sample with pebbles, charcoal, and botanical inclusions; one lot side-notched projectile point; one lot soil sample with stones and botanical inclusions; one lot soil sample with stones; one lot soil sample; one lot charcoal, sand, and pebbles; one lot charcoal and botanical inclusions; one lot soil sample with charcoal, pebbles, and cremated faunal bone fragments; one lot charcoal and lithic flake; one lot soil sample with charcoal; one lot charcoal fleck fragments with sand; and one lot soil sample with charcoal and lithic inclusions.

In October and November of 1956, human remains representing, at minimum, six individuals were removed from the Palmiteer Mound site (20NE101) in Newaygo County, MI. Two amateur collectors excavated Mound 3, which is part of a larger mound group, located near the Muskegon River. The oblong burial pit within the mound was noted to contain a bundle burial, a Busycon sp. conch shell, 200 copper beads, and an antler bone tool. Only the human remains were donated to the UMMAA soon after they were excavated. At a later date, the UMMAA received two copper beads from a different collector that were also recorded as being from the site. The human remains are one infant 18 months to 2 years old; one child 4-6 years old; one juvenile; one adolescent 12-15 years old; one adult 35+ years old, sex indeterminate with a possible underlying infection; and one adult, sex indeterminate. The site has been dated to the Middle Woodland Period (300 B.C.-A.D. 500) based on the burial treatment and diagnostic artifacts. No known individuals were identified. The three associated funerary objects present are one lot of copper beads; one lot unworked faunal bone fragment; and one lot unworked faunal bone fragments.

On an unknown date in 1847, human remains representing, at minimum, one individual were removed from the St. Helen's Lake site in Roscommon County, MI. The human remains and earthenware sherd were removed from a mound, and donated to UMMAA by a person associated with the Michigan Geological Survey from the Department of Conservation. It is unclear how the site was excavated and if the human remains are associated with the sherd. The human remains are one adult 30-50 years, sex indeterminate. No known individual was identified. The site is dated to the Early Late Woodland based on the earthenware sherd. The one associated funerary object is one lot earthenware sherd.

Determinations Made by the University of Michigan

Officials of the University of Michigan have determined that:

• Pursuant to 25 U.S.C. 3001(9), the human remains described in this notice are Native American based on cranial morphology, dental traits, accession documentation, and archeological context.

• Pursuant to 25 U.S.C. 3001(9), the human remains described in this notice represent the physical remains of 50 individuals of Native American ancestry.

• Pursuant to 25 U.S.C. 3001(3)(A), the 108 objects described in this notice is reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of The Tribes.

• Treaties, Acts of Congress, or Executive Orders, indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Dr. Ben Secunda, NAGPRA Project Manager, University of Michigan, Office of Research, 4080 Fleming Building, 503 Thompson St., Ann Arbor, MI 48109-1340, telephone (734) 647-9085, email bsecunda@umich.edu, by September 16, 2021. After that date, if no additional requestors have come forward, transfer of control of the human remains and associated funerary objects to The Tribes may proceed.

The University of Michigan is responsible for notifying The Tribes that this notice has been published.

Dated: August 4, 2021.
Melanie O'Brien,
Manager, National NAGPRA Program.

[FR Doc. 2021-17561 Filed 8-16-21; 8:45 am]

BILLING CODE 4312-52-P